DEPARTMENT OF COMMERCE

National Oceanic and Atmospheric Administration

RIN 0648-XL80

Endangered and Threatened Species; Take of Anadromous Fish

AGENCY: National Marine Fisheries Service (NMFS), National Oceanic and Atmospheric Administration (NOAA), Commerce.

ACTION: Receipt of applications for scientific research permits; receipt of application to renew and to modify scientific permit; request for comments.

SUMMARY: Notice is hereby given that NMFS has received applications for scientific research from the U.S. Fish and Wildlife Service (USFWS-Stockton) in Stockton, CA (13791), and from FISHBIO Environmental, LLC (FISHBIO) in Chico, CA (14092). Notice is also given that NMFS has received an application to modify a permit for scientific research from the Interagency Ecological Program (IEP), in Stockton, CA (1440). These permits would affect the federally endangered Sacramento River winter-run Chinook salmon and the threatened Central Valley spring-run Chinook salmon Evolutionarily Significant Units (ESUs), the federally threatened Central Valley steelhead Distinct Population Segment (DPS), and the federally threatened southern Distinct Population of North American green sturgeon (southern DPS of green sturgeon). Permit 1440 would also affect threatened Central California Coast steelhead. This document serves to notify the public of the availability of the permit applications for review and comment.

DATES: Written comments on the permit applications must be received no later than 5 p.m. Pacific Standard Time on December 22, 2008.

ADDRESSES: Comments submitted by e-mail must be sent to the following address FRNpermitsSAC@noaa.gov. The applications and related documents are available for review by appointment, for permits: Protected Resources Division, NMFS, 650 Capitol Mall, Suite 8-300, Sacramento, CA 95814 (ph: 916-930-3600, fax: 916-930-3629).

FOR FURTHER INFORMATION CONTACT: Shirley Witalis at phone number 916-930-3606, or e-mail: shirley.witalis@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally-listed endangered Sacramento River winter-run Chinook salmon (Oncorhynchus tshawytscha) ESU, threatened Central Valley spring-run Chinook salmon (O. tshawytscha) ESU, threatened Central Valley steelhead (O. mykiss) DPS, threatened Central California Coast steelhead (O. mykiss), and threatened southern DPS of North American green sturgeon (Acipenser medirostris).

Applications Received

USFWS-Stockton requests a 3-year permit (13791) for take of juvenile Sacramento River winter-run Chinook salmon, Central Valley spring-run Chinook salmon, and Central Valley steelhead associated with research on salmonid migratory behavior at monitoring locations in the Sacramento River basin and in the Sacramento-San Joaquin Delta, in California. USFWS-Stockton requests authorization for an estimated annual take of 3,000 juvenile Central Valley salmonids for three consecutive years resulting from capture (by seine, trawl, gill and fyke net), handling, anesthetizing, measuring, tissue sampling, scale sampling, tag scanning, and release of fish. A subsample of incidental mortalities may be retained by the U.S. Fish and Wildlife Service office in Red Bluff, CA as a teaching collection and as a source of tissues for genetic and life history analysis. USFWS-Stockton requests authorization for an estimated total take of 39 adult and 2591 juvenile winter-run Chinook salmon (that includes 12.8 percent and 2.0 percent incidental mortality, respectively), 29 adult and 12317 juvenile spring-run Chinook salmon (that includes 17.2 percent and 1.2 percent incidental mortality), 49 adult and 632 juvenile steelhead (12.2 percent and 3.5 percent incidental mortality), and 14 adult and 15 juvenile green sturgeon (no associated mortality), resulting from capture, handling, measuring, and releasing of fish.

FISHBIO requests a 5-year permit (14092) for incidental take of threatened Central Valley steelhead in the lower Stanislaus River associated with a study that aims to characterize fish species composition, abundance, and seasonal distribution; evaluate juvenile Chinook salmon rearing extent, timing, and locations; and determine potential limiting factors for juvenile rearing and mitigation. FISHBIO requests authorization for an estimated annual take of 34 adult and 249 juvenile steelhead (that includes 5.9 percent and 5.6 percent incidental mortality, respectively) resulting from capture by seine, pack or boat electrofishing; handling, measuring, and releasing of fish.

IEP requests modification of a 10-year permit (1440) for incidental take of adult and juvenile Sacramento River winter-run Chinook salmon, Central Valley spring-run Chinook salmon, Central Valley steelhead, Central California Coast steelhead, and southern DPS of green sturgeon associated with research studies located throughout the Sacramento-San Joaquin Bay-Delta that aim to evaluate the effects of water export facilities (State Water Project and Central Valley Water Project) on aquatic organisms. IEP requests authorization for an estimated annual take of 38 adult and 289 juvenile winter-run Chinook salmon (that includes 10.5 percent and 7.3 percent incidental mortality, respectively), 105 adult and 1894 juvenile spring-run Chinook salmon (that includes 9.5 percent and 6.3 percent incidental mortality), 37 adult and 240 juvenile steelhead (that includes 8.1 percent and 5.4 percent incidental mortality), 2 juvenile Central California Coast steelhead (no mortality), and 272 adult and sub-adult green sturgeon (that includes 4.0 percent of incidental mortality), resulting from capture (by various methodologies, including net, seine, hook-and-line, and boat electrofishing) handling, biological sampling, and releasing of fish.

Dated: November 17, 2008.
Angela Somma,
Chief, Endangered Species Division, Office of Protected Resources, National Marine Fisheries Service.

[FR Doc. E8-27770 Filed 11-20-08; 8:45 am]

BILLING CODE 3510-22-S